DEPARTMENT OF ENERGY

Federal Energy Regulatory Commission

[Docket No. RP01-239-000]

Tennessee Gas Pipeline Company; Notice of Proposed Changes in FERC Gas Tariff

March 6, 2001.

Take notice that on February 28, 2001, Tennessee Gas Pipeline Company (Tennessee), tendered for filing as part of its FERC Gas Tariff, Fifth Revised Sheet No. 159 and Fifth Revised Sheet No. 220. Tennessee requests that the tariff sheets be made effective April 1, 2001.

Tennessee is proposing to provide flexibility for customer's use of their Transportation Path under Extended Delivery Service and Extended Receipt Service (ED/ERS) and remove any requirement that receipt and delivery points used under EDS/ERS, be either upstream or downstream, respectively, of the customer's Transportation Path. Tennessee is also updating the language used for EDS/ERS in Rate Schedule FT-A.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at

http://www.ferc.fed.us/efi/doorbell.htm.

David P. Boergers,
Secretary.

[FR Doc. 01-5990 Filed 3-9-01; 8:45 am]

BILLING CODE 6717-01-M